DEPARTMENT OF HEALTH AND HUMAN SERVICES

National Institutes of Health

National Institute of Mental Health; Amended Notice of Meeting

Notice is hereby given of a correction in Interagency Autism Coordinating Committee (IACC), Services Subcommittee Conference Call and Webinar, September 15, 2008, 9:30 a.m. to 11:30 a.m., which was published in the Federal Register on August 15, 2008, 73 FR 47958.

The correct meeting access code is 3857872. Everything else remains the same.

Dated: August 20, 2008.
Jennifer Spaeth,
Director, Office of Federal Advisory Committee Policy.

[FR Doc. E8-19804 Filed 8-26-08; 8:45 am]

BILLING CODE 4140-01-P